DEPARTMENT OF LABOR

Employment and Training Administration

Proposed Information Collection Request Submitted for Public Comment and Recommendations; Data Collection and Reporting for Wagner-Peyser Act Funded Public Labor Exchange and Veterans' Employment and Training Service Funded Labor Exchange

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. The Employment and Training Administration (ETA) and the Veterans' Employment and Training Service (VETS) are soliciting comments on revised reporting requirements for the Labor Exchange Reporting System (LERS). These changes are necessary to reflect program and service changes implemented under the Jobs for Veterans Act and include data elements necessary for assessing state progress against a set of common performance measures beginning July 1, 2005.

DATES: Submit comments on or before September 12, 2005.

ADDRESSES: Send comments to: Dr. Esther R. Johnson, Administrator, Performance and Technology Office, Employment and Training Administration, U.S. Department of Labor, 200 Constitution Avenue NW., Room S-5206, Washington, DC 20210; telephone: (202) 693-3420 (this is not a toll-free number); fax: (202) 693-3490; e-mail: ETAperforms@dol.gov.

FOR FURTHER INFORMATION CONTACT: Ms. Karen A. Staha, Performance and Technology Office, Employment and Training Administration, U.S. Department of Labor, 200 Constitution Avenue NW., Room S-5206, Washington, DC 20210; telephone: (202) 693-3420 (this is not a toll-free number); fax: (202) 693-3490; e-mail: ETAperforms@dol.gov.

Copies of the Paperwork Reduction Act Submission Package may be obtained directly at the Web site: http://www.doleta.gov/performance/guidance/ombcontrolnumber.cfm.

SUPPLEMENTARY INFORMATION:

I. Background

States submit quarterly performance data for the Wagner-Peyser-funded public labor exchange services through ETA 9002 reports and for Veterans' Employment and Training Services (VETS)-funded labor exchange services through VETS 200 reports. The Employment and Training (ET) Handbook No. 406 contains the report forms and provides instructions for completing these reports. The ET Handbook No. 406 contains a total of eight reports (ETA 9002 A, B, C, D, E; VETS 200 A, B, C). The ETA 9002 and VETS 200 reports collect data on individuals who receive core employment and workforce information services through the public labor exchange and VETS-funded labor exchange of the states' One-Stop delivery systems.

In 2001, under the President's Management Agenda, the Office of Management and Budget (OMB) and other Federal agencies developed a set of common performance measures to be applied to certain Federally-funded employment and training programs with similar strategic goals. As part of this initiative, ETA initially issued Training and Employment Guidance Letter (TEGL) 15-03 and has more recently issued TEGL 28-04, Common Measures Policy, which rescinded TEGL 15-03 and reflected updates to the policy. The value of implementing common measures is the ability to describe in a similar manner the core purposes of the workforce system—how many people found jobs; whether they kept their jobs; and what their earnings were. Multiple sets of performance measures have burdened states and grantees, as they are required to report performance outcomes based on varying definitions and methodologies. By minimizing the different reporting and performance requirements, implementing a set of common performance measures can facilitate the integration of service delivery, reduce barriers to cooperation among programs, and enhance the ability to assess the effectiveness and impact of the workforce investment system, including the performance of the system in serving individuals facing significant barriers to employment.

The common measures are an integral part of ETA's performance accountability system, and ETA will continue to collect from grantees the data on program activities, participants, and outcomes that are necessary for program management and to convey full and accurate information on the performance of workforce programs to policymakers and stakeholders.

This revision to the LERS identifies a minimum level of information collection that is necessary to comply with Equal Opportunity requirements, holds states appropriately accountable for the Federal funds they receive, assesses progress against the common performance measures, and allows the Department to fulfill its oversight and management responsibilities.

The Employment and Training Administration is proposing similar changes to the reporting requirements for the Workforce Investment Act (WIA) title 1B and Trade Adjustment Assistance programs. Please note that ETA will seek comments regarding changes to information collection for these programs in separate Federal Register notices.

The following three adult common performance measures apply to the Wagner-Peyser Act and VETS-funded public labor exchange programs:

• Entered Employment

• Retention

• Six Months Earnings Increase

Implementation of common measures will involve the following modifications to the LERS:

• Registration year will be eliminated. States will track participant outcomes following the quarter in which the participant exited the program.

• States will track individuals as “participants” and “exiters.”

• The measurement period for entry into employment will change to the first quarter following the quarter of exit.

• The measurement period for employment retention will change to both the second and third quarters following the quarter of exit.

• States will be required to calculate and report on six-month pre- to post-program earnings, a new measure for the Wagner-Peyser Act and VETS-funded public labor exchange programs.

• To integrate its employment and workforce information services, ETA and VETS will collect data on the provision of workforce information services to job seekers.

• “Transitioning Service Member” will be introduced as a covered category in accordance with the Jobs for Veterans Act, Public Law 107-288. States will be required to submit data regarding services to and outcomes for Transitioning Service Members.

The following modifications affect only the Wagner-Peyser Act funded program:

• States will be required to sub-aggregate outcome data for job seekers who receive workforce information services.

• States will no longer be required to collect and report on employer and job seeker customer satisfaction for Wagner-Peyser Act funded programs.

The following modifications affect only the VETS-funded programs:

• States will be required to report aggregate counts of participants who receive a Transitional Assistance Program (TAP) Workshop.

• “Homeless Veteran” will be introduced as a covered category in accordance with the Homeless Veterans' Comprehensive Assistance Act of 2001 (Pub. L. 107-95).

• States will be required to submit data on services and outcomes to homeless veteran job seekers only on the VETS 200 C report.

The ET Handbook No. 406, which contains the report forms and provides instructions for completing the ETA 9002 and the VETS 200 reports, has been modified to reflect these changes.

States will continue to submit performance information through the existing rolling-four quarters methodology. The first revised quarterly report, which includes common performance measures, will be due November 15, 2005. ETA and the states will negotiate expected levels of performance for the Wagner-Peyser-Act funded program beginning in Program Year 2006 (July 1, 2006), using information and outcomes from Program Year 2005 as a baseline.

II. Desired Focus of Comments

Currently, the Department is soliciting comments concerning the proposed revised collection of data for the Wagner-Peyser Act-funded public labor exchange and VETS-funded labor exchange in order to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed ICR can be obtained by contacting the office listed above in the addressee section of this notice.

III. Current Actions

Type of Review: Revision.

Agency: Department of Labor, Employment and Training Administration.

Title: Labor Exchange Reporting System (LERS).

OMB Number: 1205-0240.

Affected Public: State, local, or tribal Governments.

Cite/Reference/Form/etc: Wagner-Peyser Act (29 U.S.C. 49) and Jobs for Veterans Act (Pub. L. 107-288).

Total Respondents: 54 states and territories.

Frequency: Quarterly.

Total Responses: 1,728 submissions annually—each state submits reports each quarter.

Estimated Total Burden Hours:

Form/activity | Total respondents | Frequency | Total responses | Average time per response | Total annual burden hours
ETA 9002 A | 54 | Quarterly | 216 | 346 | 74,641
ETA 9002 B | 54 | Quarterly | 216 | 346 | 74,641
ETA 9002 C | 54 | Quarterly | 216 | 346 | 74,641
ETA 9002 D | 54 | Quarterly | 216 | 346 | 74,641
ETA 9002 E | 54 | Quarterly | 216 | 21 | 4,536
VETS 200 A | 54 | Quarterly | 216 | 346 | 74,641
VETS 200 B | 54 | Quarterly | 216 | 346 | 74,641
VETS 200 C | 54 | Quarterly | 216 | 346 | 74,641
Totals | 54 |  | 1,728 |  | 527,020

Total Burden Cost (capital/startup): $1,825,200.

Total Burden Cost (operating/maintaining): $17,128,164.

Comments submitted in response to this notice will be summarized and/or included in the request for OMB approval of the information collection request; they will also become a matter of public record.

Signed in Washington, DC, on June 7, 2005.
Emily Stover DeRocco,
Assistant Secretary for Employment and Training.

[FR Doc. 05-13711 Filed 7-12-05; 8:45 am]

BILLING CODE 4510-30-P